ENVIRONMENTAL PROTECTION AGENCY

[FRL-8685-1]

Science Advisory Board Staff Office; Notification of a Public Teleconference of the Science Advisory Board Acrylamide Review Panel

AGENCY: Environmental Protection Agency (EPA).

ACTION: Notice.

SUMMARY: The EPA Science Advisory Board (SAB) Staff Office announces a public teleconference of the SAB Acrylamide Review Panel to finalize its draft report on its review of EPA's draft “Toxicological Review of Acrylamide”.

DATES: A public teleconference of the SAB Acrylamide Review Panel will be held from 1 p.m. to 4 p.m. (Eastern Time) on July 16, 2008.

ADDRESSES: The public teleconference will take place via telephone only.

FOR FURTHER INFORMATION CONTACT: Members of the public who wish to obtain the call-in number and access code to participate in the teleconference may contact Dr. Sue Shallal, EPA Science Advisory Board Staff (1400F), U.S. Environmental Protection Agency, 1200 Pennsylvania Ave., NW., Washington, DC 20460; telephone/voice mail: (202) 343-9977 or via e-mail at shallal.suhair@epa.gov.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. Pursuant to the Federal Advisory Committee Act, Public Law 92-463, notice is hereby given that the EPA SAB Acrylamide Review Panel will hold a public teleconference to finalize their draft report.

Background: EPA's Office of Research and Development (ORD) has requested that the SAB peer review the Agency's draft Integrated Risk Information System (IRIS) assessment entitled “Toxicological Review of Acrylamide.” Background on this SAB review, including the process for forming this review panel was provided in a Federal Register Notice published on March 29, 2007 (Volume 72 FR 60; 14804-14805). The SAB Panel met on March 11-12, 2008 to review the IRIS document [see Federal Register Notice dated February 1, 2008 (Volume 73, Number 22, Pages 6181-6182)]. The purpose of this upcoming teleconference is for the SAB Panel to discuss and finalize its draft report. Additional information about this advisory activity can be found on the SAB Web site at http://www.epa.gov/sab. A meeting agenda and the draft SAB review report will be posted at the above noted SAB Web site prior to the meeting.

Availability of Meeting Materials: The meeting agendas and other materials including the SAB panel's draft report will be available on the SAB Web site at (http://www.epa.gov/sab) in advance of the meeting. For technical questions and information concerning the EPA's IRIS assessment, please contact Dr. Rob Dewoskin, at (919) 541-1089, or dewoskin.rob@epa.gov.

Procedures for Providing Public Input: Interested members of the public may submit relevant written or oral information for the SAB Panel to consider throughout the advisory process. Oral Statements: In general, individuals or groups requesting an oral presentation at a public SAB teleconference will be limited to three minutes per speaker, with no more than a total of one-half hour for all speakers. To be placed on the public speaker list, interested parties should contact Dr. Sue Shallal, DFO, in writing (preferably via e-mail), by July 9, 2008. Written Statements: Written statements should be received in the SAB Staff Office by July 9, 2008, so that the information may be made available to the SAB for their consideration prior to the teleconference. Written statements should be supplied to the DFO via e-mail to shallal.suhair@epa.gov (acceptable file format: Adobe Acrobat PDF, WordPerfect, MS Word, MS PowerPoint, or Rich Text files in IBM-PC/Windows 98/2000/XP format).

Accessibility: For information on access or services for individuals with disabilities, please contact Dr. Sue Shallal at (202) 343-9977 or shallal.suhair@epa.gov. To request accommodation of a disability, please contact Dr. Shallal preferably at least ten days prior to the meeting, to give EPA as much time as possible to process your request.

Dated: June 18, 2008.
Vanessa T. Vu,
Director, EPA Science Advisory Board Staff Office.

[FR Doc. E8-14402 Filed 6-24-08; 8:45 am]

BILLING CODE 6560-50-P